DEPARTMENT OF THE TREASURY

Fiscal Service

Surety Companies Acceptable on Federal Bonds—Termination and Merger: Surety Company of the Pacific

AGENCY: Financial Management Service, Fiscal Service, Department of the Treasury.

ACTION: Notice.

SUMMARY: This is Supplement No. 12 to the Treasury Department Circular 570, 2006 Revision, published June 30, 2008, at 73 FR 37644.

FOR FURTHER INFORMATION CONTACT: Surety Bond Branch at (202) 874-6850.

SUPPLEMENTARY INFORMATION: Notice is hereby given that the Certificate of Authority issued by the Treasury to Surety Company of the Pacific (NAIC# 12793) under 31 U.S.C. 9305 to qualify as acceptable surety on Federal bonds has been terminated. The above-named company merged with and into American Contractors Indemnity Company (NAIC# 10216) effective March 2, 2009. The surviving corporation of the merger activity is American Contractors Indemnity Company (NAIC# 10216), a California domiciled corporation. Federal bond-approving officials should annotate their reference copies of the Treasury Department Circular 570 (“Circular”), 2008 Revision, to reflect this change.

In the event bond-approving officers have questions relating to bonds issued by the Surety Company of the Pacific (NAIC# 12793) that has merged with and into American Contractors Indemnity Company (NAIC# 10216), they should contact American Contractors Indemnity Company at (310) 649-0990.

The Circular may be viewed and downloaded through the Internet at www.fms.treas.gov/c570.

Questions concerning this notice may be directed to the U.S. Department of the Treasury, Financial Management Service, Financial Accounting and Services Division, Surety Bond Branch, 3700 East-West Highway, Room 6F01, Hyattsville, MD 20782.

Dated: April 28, 2009.
Rose M. Miller,
Acting Director, Financial Accounting and Services Division, Financial Management Service.

[FR Doc. E9-11252 Filed 5-13-09; 8:45 am]

BILLING CODE 4810-35-M